DEPARTMENT OF COMMERCE

National Oceanic and Atmospheric Administration

50 CFR Part 622

[Docket No. 100217097-2404-03]

RIN 0648-AY22

Fisheries of the Caribbean, Gulf of Mexico, and South Atlantic; Generic Annual Catch Limits/Accountability Measures Amendment for the Gulf of Mexico; Correction

AGENCY: National Marine Fisheries Service (NMFS), National Oceanic and Atmospheric Administration (NOAA), Commerce.

ACTION: Correcting amendment.

SUMMARY: This action corrects the final rule implementing the Generic Annual Catch Limits/Accountability Measures Amendment (Generic ACL Amendment) to the Red Drum, Reef Fish Resources, Shrimp, and Coral and Coral Reefs Fishery Management Plans for the Gulf of Mexico (FMPs), which was published on December 29, 2011. Specifically, this action reinserts an inadvertently removed title from a table in the rule.

DATES: This correction is effective April 20, 2012.

FOR FURTHER INFORMATION CONTACT: Anne Marie Eich, 727-824-5305; email: AnneMarie.Eich@noaa.gov.

SUPPLEMENTARY INFORMATION:

Background

On December 29, 2011, a final rule was published to implement the Generic ACL Amendment to the FMPs (76 FR 82044). In part, that final rule removed species, including octocorals, not currently in need of Federal management from the FMPs. After the regulations implementing the Generic ACL Amendment became effective on January 30, 2012, NMFS determined that the FMP title for the Gulf Coral and Coral Reefs FMP was inadvertently removed from Table 1 in § 622.1. The intent was to remove octocoral species, which are not currently in need of Federal management, from the FMP, but not to change Table 1 in § 622.1.

Need for Correction

As published, the final rule contains an error in the FMP table in the regulatory text. In § 622.1, paragraph (b), Table 1, the row titled, “FMP for Coral and Coral Reefs of the Gulf of Mexico” was incorrectly removed. This action will reinstate that row into Table 1 in § 622.1. All other information remains unchanged and will not be repeated in this correction.

Classification

Pursuant to 5 U.S.C. 553(b)(B), the Assistant Administrator for Fisheries, NOAA, finds good cause to waive prior notice and opportunity for additional public comment for this action because delaying this action is unnecessary. This correcting amendment includes a minor, non-substantive change to regulatory text to reinstate a row of text into the FMP table in 50 CFR part 622 that was incorrectly removed. This amendment does not modify, add or remove any rights, privileges or obligations of any individuals. Rather, the removal of an FMP in a table published in the final rule was an error. Reinserting this row into the table, as published in this correcting amendment, will alleviate unnecessary confusion for participants in Gulf fisheries. No adverse affect on fishing stocks will result from this amendment. Because this is a minor technical amendment that is administrative in nature and in which the public would have little interest, public comment is unnecessary.

For the same reasons, the Assistant Administrator also finds good cause, pursuant to 5 U.S.C. 553(d), to waive the 30-day delay in effective date for this correcting amendment. This revision is a minor, non-substantive change and does not change operating practices in Gulf fisheries. The immediate publication of this correcting amendment will alleviate potential confusion for Gulf fishermen.

Because prior notice and opportunity for public comment are not required for this rule by 5 U.S.C. 553, or any other law, the analytical requirements of the Regulatory Flexibility Act, 5 U.S.C. 601 et seq., are inapplicable.

This action is not considered significant under Executive Order 12866.

List of Subjects in 50 CFR Part 622

Fisheries, Fishing, Puerto Rico, Reporting and recordkeeping requirements, Virgin Islands.

Dated: April 16, 2012.
Samuel D. Rauch III,
Acting Assistant Administrator for Fisheries, National Marine Fisheries Service.

Accordingly, 50 CFR part 622 is corrected by making the following correcting amendment:

PART 622—FISHERIES OF THE CARIBBEAN, GULF, AND SOUTH ATLANTIC

1. The authority citation for part 622 continues to read as follows:

Authority: 16 U.S.C. 1801 et seq.

2. In § 622.1, paragraph (b), in Table 1, the row titled “FMP for Coral and Coral Reefs of the Gulf of Mexico” is added, in alphabetical order, to read as follows:

§ 622.1 Purpose and scope.

* * * * *

(b) * * *

Table 1—FMPs Implemented Under Part 622
FMP title | Responsible fishery management council(s) | Geographical area
* * * * * * *
FMP for Coral and Coral Reefs of the Gulf of Mexico | GMFMC | Gulf.
* * * * * * *

* * * * *

[FR Doc. 2012-9604 Filed 4-19-12; 8:45 am]

BILLING CODE 3210-22-P